ENVIRONMENTAL PROTECTION AGENCY

[FRL-7382-9]

Office of Environmental Information Contact Information Data Standard

AGENCY: Environmental Protection Agency (EPA).

ACTION: Notice of information availability and request for comments.

SUMMARY: Notice of availability is hereby given for a 45-day public comment period on the Contact Information Data Standard. The draft standard consists of a list of data elements, definitions for these elements, notes, and explanatory preamble language. Also included in the Docket are a set of Frequently Asked Questions Concerning the Contact Information Data Standard. The draft standard was developed by the partnership efforts of States, Tribes, and U.S. Environmental Protection Agency participating in the Environmental Data Standards Council (EDSC). The EDSC convened Action Teams consisting of representatives from EPA, and the States to develop the core set of data elements to facilitate the sharing of information regarding contact name, address, and communication information. The EPA and the EDSC invite comment on these standards from States, EPA, Tribes, database managers in the public and private sectors, and the general public with interest in development and use of data for which defines the who, where, and how in contacting a person or organization.

DATES: Comments must be submitted on or before November 12, 2002.

ADDRESSES: Comments may be submitted electronically, by mail, by facsimile, or through hand delivery/courier. Follow the detailed instructions as provided in the SUPPLEMENTARY INFORMATION section.

FOR FURTHER INFORMATION CONTACT: Linda Spencer, OEI/OIC/CSTD, U.S. Environmental Protection Agency, 1200 Pennsylvania Avenue (MC 2822T), Washington, DC 20460, Phone: 202 566 1651, Fax: 202 566 1624, e-mail: spencer.linda@epa.gov.

SUPPLEMENTARY INFORMATION:

I. General Information

A. How Can I Get Copies of This Document and Other Related Information?

1. Docket

EPA has established an official public docket for this action under Docket ID No. OEI—2002-0007. The official public docket consists of the documents specifically referenced in this action, any public comments received, and other information related to this action. Although a part of the official docket, the public docket does not include Confidential Business Information (CBI) or other information whose disclosure is restricted by statute. The official public docket is the collection of materials that is available for public viewing at the OEI Docket in the EPA Docket Center, (EPA/DC) EPA West, Room B102, 1301 Constitution Ave., NW, Washington, DC. The EPA Docket Center Public Reading Room is open from 8:30 a.m. to 4:30 p.m., Monday through Friday, excluding legal holidays. The telephone number for the Reading Room is (202) 566-1742, and the telephone number for the OEI Docket is (202) 566-1752).

2. Electronic Access

You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket identification number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

For additional information about EPA's electronic public docket visit EPA Dockets online or see 67 FR 38102, May 31, 2002.

B. How and To Whom Do I Submit Comments?

You may submit comments electronically, by mail, by facsimile, or through hand delivery/courier. To ensure proper receipt by EPA, identify the appropriate docket identification number in the subject line on the first page of your comment. Please ensure that your comments are submitted within the specified comment period. Comments received after the close of the comment period will be marked “late.” EPA is not required to consider these late comments. However, late comments may be considered if time permits.

1. Electronically

If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. To access EPA's electronic public docket from the EPA Internet home page, select “Information Sources,” “Dockets,” and “EPA Dockets.” Once in the system, select “search,” and then key in Docket ID No. OEI-2002-0007. The system is an “anonymous access” system, which means EPA will not know your identity, e-mail address, or other contact information unless you provide it in the body of your comment.

ii. E-mail. Comments may be sent by electronic mail (e-mail) to OEI.docket@epa.gov, Attention Docket ID No. OEI-2002-0007. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit 1.B. These electronic submissions will be accepted in WordPerfect or ASCII file format. Avoid the use of special characters and any form of encryption.

iv. By Mail. Send your comments to: OEI Docket, Environmental Protection Agency, Mailcode: 6102T, 1200 Pennsylvania Ave., NW, Washington, DC, 20460, Attention Docket ID No. OEI-2002-0007.

v. By Hand Delivery or Courier. Deliver your comments to: Public Reading Room, Room B102, EPA West Building, 1301 Constitution Avenue, NW, Washington, DC, Attention Docket ID No. OEI-2002-0007. Such deliveries are only accepted during the Docket's normal hours of operation as identified in Unit I. A. 1.

vi. By Facsimile. Fax your comments to: 202-566-1753, Attention Docket ID. No. OEI-2002-0007.

C. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate docket identification number in the subject line on the first page of your response. It would also be helpful if you provided the name, date, and Federal Register citation related to your comments.

II. Environmental Data Standards Council (EDSC) Background

Data sharing has become an increasingly important aspect of sound environmental management. States, Tribes, and EPA together face the critical challenge of sharing information among themselves and with their respective stakeholders and public. Fundamental to the seamless exchange of data are data standards. Data standards help improve the ability of partners (internal and external) to exchange data efficiently and accurately, and also assist secondary users of data to understand, interpret, and use data appropriately. Recognition of the need for EPA, States and Tribes to develop and agree upon data standards for environmental information sharing has lead to the creation of the EDSC. Data standards are documented agreements on formats and definitions of data elements. Standards are developed only when there is an environmental management business reason.

The EDSC's mission is to promote the efficient sharing of environmental information between EPA, States, Tribes, and other parties through the development of data standards. The EDSC identified contact information as an information area for which having a standard will create value to all interested parties. An Action Team deliberation process bringing together State, EPA, and Tribal parties began in June 2002 for the Contact Information Data Standard. The standard was delivered to the EDSC for consideration in August 2002 and approved for initiation of this 45-day public comment period.

After the comment period announced in this Notice, the EDSC and its Action Team will review comments received and make appropriate modifications. The EDSC will then consider approval of these data standards as appropriate. EDSC approval does not bind an individual agency to using a standard. It will be up to the individual or programs to determine if, when, and how it might use a standard developed under the auspices of the EDSC. It will be the intent of EPA to adopt and implement the consistent use of EDSC-approved standards in its information systems and programs.

III. Draft Contact Information Data Standard Background

The draft Contact Information Data Standard includes: (1) Point of Contact, (2) Address, and (3) Communication information. The Contact Information Data Standard helps define the answers to: who, where, and how in contacting a person or organization. In order to ensure consistency among data standards, some of the data elements which are included in this Contact Information Data Standard have been incorporated from the Facility Identification Data Standard and the Permitting Standards which were previously approved by the EDSC. In addition to being available in the docket, the Draft Contact Information Data Standard and the Frequently Asked questions concerning the Data Standard can be accessed on the EDSC Web site at http://www.epa.gov/edsc or in the U.S. Environmental Protection Agency's Environmental Data Registry at http://www.epa.gov/edr.

IV. Future Revisions

EDSC standards will be periodically reviewed and revised as recommended by the EDSC. The most current standards will be posted at www.edsc.org and www.epa.gov/edr.

V. Review of Draft Standard to Date

The draft standard has received significant input through the representatives from EPA program, States, and Tribal organizations. In addition, the preliminary versions of the draft standards have been reviewed by State and EPA programs managers during the second quarter of 2002. EDSC members have also reviewed and recommended these draft standards for this public comment process.

Dated: September 17, 2002.
Mark Luttner,
Director, Office of Information Collection, Office of Environmental Information.

[FR Doc. 02-24340 Filed 9-24-02; 8:45 am]

BILLING CODE 6560-50-P